SOCIAL SECURITY ADMINISTRATION

Administrative Review Process, Test of the Elimination of the Fourth Step of Administrative Review in the Disability Claim Process (Request for Review by the Appeals Council) in Conjunction With Testing of Modifications to the Disability Determination Procedures; Disability Claims Process Redesign Prototype

AGENCY: Social Security Administration.

ACTION: Notice of a test.

SUMMARY: The Social Security Administration (SSA) is announcing a test of the elimination of the fourth step of administrative review in the disability claim process (Request for Review by the Appeals Council) in conjunction with the present disability prototype test. Before making any decisions on the merits of the elimination of the request for review, SSA must obtain valid and reliable data on the effects of such elimination—including the impact it may have on agency operations, notices and other procedures, rates of filing to Federal District Courts, and quality and timeliness of service to the public.

DATES: Cases to be included in the test of the elimination of the Request for Review will be selected from those prototype case requests for hearing which are received in servicing hearing offices on or after June 1, 2000, or the date of this notice—whichever is later; and in which an initial application for Social Security Disability Insurance or Supplemental Security Income Disability Benefits was filed effective between and including January 1, 2000 and July 31, 2000.

FOR FURTHER INFORMATION CONTACT: Georgia E. Myers, Regulations Officer, Office of Process and Innovation Management, Social Security Administration, L2109 West Low Rise, 6401 Security Boulevard, Baltimore, MD 21235-6401, (410) 965-3632 or TTY 410-966-5609 for information about this notice. For information on eligibility or filing for benefits, call our national toll-free number, 1-800-772-1213 or TTY 1-800-325-0778.

SUPPLEMENTARY INFORMATION: Current rules codified at 20 CFR 404.966 and 416.966 authorize us to test procedures for eliminating the request for Appeals Council Review (“Request for Review Eliminated”—RRE) on randomly selected cases. Additional rules codified at 20 CFR 404.906 and 20 CFR 416.1406 authorize us to test other modifications to the disability determination procedures individually or in any combination. One test has already been conducted using the former authority and several tests have already been conducted using the latter. In fact, the sole test using the authority for elimination of request for Appeals Council Review was combined with a test using the authority to test modifications to the disability determination procedures individually or in any combination that we termed the full process model (FPM).

The FPM was an integrated test (authorized in part under 404.906 and 416.1406) that we initiated on April 7, 1997 (published in the Federal Register on April 4, 1997 (62 FR 16210)) that combined several modifications to the disability determination process including enhanced decision making authority for Disability Determination Services (DDS) disability examiners and a restructuring of the role of the DDS medical consultant; provision for a predecision interview conducted by the decision maker if the evidence is insufficient to support a fully favorable disability determination; and elimination of the reconsideration step of review for initial disability claims. It also included testing of the use of an adjudication officer for cases in which a request for hearing was filed. The test of the adjudication officer is authorized under rules at 20 CFR 404.943 and 416.1443.

As an adjunct to the FPM test, using regulatory authority at 20 CFR 404.966 and 416.1466 (published in the Federal Register on September 23, 1997 (62 FR 49598)) we tested the RRE in order to assess the effects of this change, in conjunction with the other FPM modifications. We are now announcing a retest of the RRE (“RRE II”) because initial RRE study results failed to produce sufficient data upon which to base policy decisions and because testing the RRE in conjunction with recently implemented initiatives would yield valuable data for assessing the effects of the RRE upon claimant service and administrative processes.

Initial Level Prototype Testing

The latest test using the regulatory authority at 20 CFR 404.906 and 20 CFR 416.1406 was announced in the Federal Register on August 30, 1999 (64 FR 47218). There we announced a prototype that incorporates multiple modifications to the disability determination procedures employed by State Disability Determination Services (DDSs) which have been shown to be effective in earlier tests. Specifically, the prototype incorporates a series of changes that improve the initial disability determination process by: providing greater decisional authority to the disability examiner and more effective use of the expertise of the medical consultant; ensuring development and explanation of key issues; increasing opportunities for claimant interaction with the decision maker before a determination is made; and simplifying the appeals process by eliminating the reconsideration step. The test is focused on 10 states to enable us to further refine the process and learn more about potential operational impacts of the changes identified. This strategy should allow us to put the complete process together and ensure that the changes meet our goal of improved service to disability applicants.

The prototype test is being conducted in 10 states. Eight include all Social Security and Supplemental Security Income disability applications:

Alabama

—Department of Education, Disability Determination Services, 2545 Rocky Ridge Lane, Birmingham, AL 35216

—Department of Education, Disability Determination Services, 2000 Old Bayfont Drive, Mobile, AL 36652

Alaska

—Division of Vocational Rehabilitation, Disability Determination Unit, 619 East Ship Creek Avenue, Suite 305, Anchorage, AK 99501

Colorado

—Department of Human Services, Division of Disability Determination, 2530 South Parker Road, Suite 500, Aurora, CO 80014-1641

Louisiana

—Department of Social Services, Office of Family Support, Disability Determination Services, 5905 Florida Blvd. Suite 3, Baton Rouge, LA 70806

—Department of Social Services, Office of Family Support, Disability Determination Services, 2920 Knight Street, Suite 232, Shreveport, LA 71105

—Department of Social Services, Office of Family Support, Disability Determination Services, 3510 North Causeway Blvd., Metairie, LA 70002

Michigan

—Family Independence Agency, Disability Determination Services, 608 W. Allegan Street, Third Floor, Lansing, MI 48933

—Family Independence Agency, Disability Determination Services, MI Plaza Building, Tenth Floor, 1200 Sixth Street, Detroit, MI 48226

—Family Independence Agency, Disability Determination Services, 315 E. Front Street, Traverse City, MI 49684

—Family Independence Agency, Disability Determination Services, 151 South Rose Street, Kalamazoo, MI 49007-4715

Missouri

—Division of Vocational Rehabilitation, Section of Disability Determinations, 1500B Southridge Drive, Jefferson City, MO 65109

—Division of Vocational Rehabilitation, Section of Disability Determinations, 1845 Borman Court, Suite 200, St. Louis, MO 63146

—Division of Vocational Rehabilitation, Section of Disability Determinations, 4040 Seven Hills Drive, Florissant, MO 63033

—Division of Vocational Rehabilitation, Section of Disability Determinations, 8500 East Bannister Road, Kansas City, MO 64134

—Division of Vocational Rehabilitation, Section of Disability Determinations, 3014 Blattner Drive, Cape Girardeau, MO 63701

—Division of Vocational Rehabilitation, Section of Disability Determinations, 2530 I South Campbell, Springfield, MO 65807

New Hampshire

—Division of Adult Learning and Rehabilitation, Disability Determination Services, State Dept. of Education Building JB, 78 Regional Drive, Concord, NH 03301

Pennsylvania

—Bureau of Disability Determination, Room 200—Central Operations, 1171 South Camerson Street, Harrisburg, PA 17104-2594

—Bureau of Disability Determination, 264 Highland Park Blvd., Wilkes-Barre, PA 18702

—Bureau of Disability Determination, 351 Harvey Avenue, Greensburg, PA 15605

Two include only applicants whose disability claims are processed in designated Disability Determination Services (DDS) branches:

California

—Los Angeles North and West—Department of Social Services, Disability and Adult Programs Division, 3425 Wilshire Blvd., Suite 1500, Los Angeles, CA 90010

New York

—Brooklyn—New York State Department of Social Services, Division of Disability Determinations, 300 Cadman Plaza West, 13th floor, Brooklyn, NY 11201-2701

—Albany—New York State Department of Social Services, Division of Disability Determinations, 99 Washington Avenue, Room 1239, Albany, NY 12260.

Administrative Appeals Process Improvements and Testing of the RRE Paired With Prototype Test

Testing the use of an Adjudication Officer (AO) authorized under 20 CFR 404.943 and 416.1443 is not included in the prototype.

Along with the prototype changes, we are incorporating several initiatives to improve the hearings process, including administrative efficiencies designed to streamline case processing; structural changes in the management organization of hearings offices; improvements in automation and data collection; and implementation of a “national workflow model” that combines pre-hearing activities, a standardized pre-hearing conference, and processing-time benchmarks for various tasks. This initiative was announced in the Federal Register on August 30, 1999 (64 FR 47218) as the Hearing Process Improvement (HPI) initiative.

Additionally, since the announcement of the HPI initiative, we have undertaken an Appeals Council Process Improvement (ACPI) initiative. ACPI includes short range initiatives to reduce pending workloads and processing times and long-range improvements in structure and operations enabling high quality, timely, and efficient case processing. The short-range elements that already are being implemented and will be in place during this test include:

• “Differential case management”—a systematic technique of differentiating cases for processing based on substantive issues in the case.

• Processing of appeals by Office of Appellate Operations managers and supervisors without prior examination by hearings and appeals analysts;

• Temporary use of attorneys from the Office of the General Counsel to augment staff in the Appeals Council;

• Expedited presentation of cases to adjudicators; and

• Temporary use of Administrative Law Judges as Acting Administrative Appeals Judges to enhance the adjudicatory and analytic strength of the Appeals Council in the short term.

If appealed to the ALJ level, most, but not all, of the cases from the prototype sites will go to hearing offices (HOs) that are in the first phase of the HPI. Thus, they will be processed using the efficiencies such as the “national workflow model” mentioned above. The prototype process is effective in prototype sites for cases effectively filed October 1, 1999 or after, with the exception of Albany, New York which became operational on April 1, 2000.

Under the existing regulatory authority authorizing us to test RRE at 20 CFR 404.966 and 416.1466 (published in the Federal Register on September 23, 1997 (62 FR 49598)) we intend to add to the previously announced prototypes a test of the effects of the RRE on prototype cases that could potentially reach the Appeals Council level, following an unfavorable ALJ decision, that meet the following criteria:

• Effective date of initial filing is between and including January 1 and July 31, 2000.

• Request for an ALJ hearing has been filed;

• Case is received in the servicing HO on or after June 1, 2000 or the effective date of this notice whichever is later; and

The servicing HO has implemented HPI (“HPI Phase One”). A case meeting the other criteria but whose servicing HO is not an HPI phase One Office will not be included.

Cases meeting the criteria received at the following HOs will be included:

DDSs | HOs
Alabama | Burger-Phillips Centre, 1910 3rd Ave. North, Suite 100, Birmingham, AL 35203.
| Walnut St. Executive Center, 205 S. Walnut St., Suite D, Florence, AL 35630.
| 3605 Springhill Business Park, Mobile, AL 36608.
| 3381 Atlanta Highway, Montgomery, AL 36109.
Alaska | 2101 4th Ave., Suite 900, Seattle, WA 98121.
California:
Los Angeles West/North | City National Bank Bldg., 606 S. Olive St., Suite 1200, Los Angeles, CA 90014.
| 11000 Wilshire Blvd., Rm. 8200, Los Angeles, CA 90024.
| Grosvenor Plaza, 150 S. Los Robles Avenue, Suite 500, Pasadena, CA 91101.
| 8345 Firestone Blvd., Second Floor, Downey, CA 90241.
Colorado | 1244 Speer Blvd., Suite 752, Denver, CO 80204.
Louisiana | 3403 Government St., Alexandria, LA 71302.
| 1515 Poydras St., Suite 1600, New Orleans, LA 70112.
| First Bank Center, 1 Galleria, Suite 2000, Metairie, LA 70001.
| 700 Louisiana Towers 401 Edwards St., Shreveport, LA 71101.
Michigan | Patrick J. McNamara Federal Bldg., 477 Michigan Ave., Room 430, Detroit, MI 48226.
| 605 N. Saginaw St., First Floor, Suite A, Flint, MI 48502.
| 15 Ionia St. S.W., Third Floor, Grand Rapids, MI 49503.
| Everett Plaza, 3500 S. Cedar St, Suite 109, Lansing, MI 48910.
| Crown Pointe, 25900 Greenfield Rd., Room 430, Oak Park, MI 48237.
Missouri | 11475 Olde Cabin Rd., Creve Coeur, MO 63141.
| Old Post Office Bldg., 815 Olive St., Rm. 220, St. Louis, MO 63101.
| 901 E. St. Louis St., Suite 210, Springfield, MO 65806.
New Hampshire | Daniel Webster Hwy. North, 207 Hooksett Rd., Manchester, NH 03104.
New York—Brooklyn * | 111 Livingston Street, 18th Floor, Brooklyn, NY 11201.
Pennsylvania | 8380 Old York Rd., Suite 250, Elkins Park, PA 19027.
| Penn National Office Bldg., 2 N. 2nd St., 8th Floor, Harrisburg, PA 17101.
| 334 Washington St., Suite 200, Johnstown, PA 15901.
| 1601 Market St., 9th Floor, Philadelphia, PA 19103.
| 601 Grant St., Suite 500, Pittsburgh, PA 15219.
| 7 N. Wilkes-Barre Blvd., Suite 210, Wilkes-Barre, PA 18702.
* Prototype cases processed at New York—Albany will not be included in the test becasuse of Albany's later start date.

As stated in the Federal Register of August 30, 1999 (64 FR 47218) it is estimated that annually on a national level approximately 20 percent of applicants for disability benefits would potentially participate in the prototype. Since those applications covered under the provisions of this notice include just over half a year, we estimate that approximately 10-12% of applicants for disability benefits (effective filings between 1/1/00 and 7/31/00) would potentially participate in at least one aspect of the prototype. Based on past case experience, those actually included in the RRE II cohort would be well below 1 percent of the national applicant workload.

Selection of test and control cases will be done on a random basis. For those selected as test cases, the right to request review by the Appeals Council will be eliminated and the right of the claimant to appeal, in the case of an unfavorable ALJ decision, will be directly to Federal District Court.

Claimants who could potentially be included in this retest of the RRE will be supplied notice of their appeal rights.

Case outcome and appeals information about both Request for Review Retained (RRR) (control) and RRE II (test) cases will be collected and analyzed. Before making any decisions on the merits of the RRE, SSA must obtain valid and reliable data on the effects of such elimination—including the impact it may have on agency operations, notices and other procedures, rates of filing to Federal District Courts, and quality and timeliness of service to the public.

Dated: May 31, 2000.
Rita S. Geier,
Associate Commissioner for Hearings and Appeals.

[FR Doc. 00-14216 Filed 6-6-00; 8:45 am]

BILLING CODE 4191-02-P